DEPARTMENT OF ENERGY

Federal Energy Regulatory Commission

[Docket No. EL17-11-000]

Alabama Power Company v. Southwest Power Pool; Notice of Complaint

Take notice that on October 24, 2016, pursuant to Rule 206 of the Federal Energy Regulatory Commission's (Commission) Rules of Practice and Procedure, 18 CFR 385.206 and sections 205, 206, 306, and 309 of the Federal Power Act, (FPA) ¹ Alabama Power Company (Complainant) filed a formal complaint against the Southwest Power Pool (Respondent) alleging that, Respondent levied unlawful charges upon the Complainant and Respondent's rates for transmission service are unjust, unreasonable, unduly discriminatory and preferential, all in violation of the FPA, as more fully explained in the complaint.

¹ 16 U.S.C. 824(d), 824(e), 825(e), and 825(h) (2015).

The Complainant certifies that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 14, 2016.

Dated: October 25, 2016.
Kimberly D. Bose,
Secretary.

[FR Doc. 2016-26187 Filed 10-28-16; 8:45 am]

BILLING CODE 6717-01-P